DEPARTMENT OF AGRICULTURE

Foreign Agricultural Service

Trade Adjustment Assistance for Farmers

AGENCY: Foreign Agricultural Service, USDA.

ACTION: Notice.

The Administrator, Foreign Agricultural Service (FAS), today accepted a petition filed by the Michigan Fish Producers' Association, Caseville, Michigan, for trade adjustment assistance. The group represents channel catfish fishermen. The Administrator will determine within 40 days whether or not imports of catfish contributed importantly to a decline in domestic producer prices of more than 20 percent during the marketing period beginning January 2003 and ending December 2003. If the determination is positive, all Michigan channel catfish fishermen will be eligible to apply to the Farm Service Agency for technical assistance at no cost and adjustment assistance payments.

FOR FURTHER INFORMATION CONTACT: Jean-Louis Pajot, Coordinator, Trade Adjustment Assistance for Farmers, FAS, USDA, (202) 720-2916, email: trade.adjustment@fas.usda.gov.

Dated: January 30, 2004.
A. Ellen Terpstra,
Administrator, Foreign Agricultural Service.

[FR Doc. 04-3234 Filed 2-12-04; 8:45 am]

BILLING CODE 3410-10-M